DEPARTMENT OF AGRICULTURE

Forest Service

Boundary Establishment for South Fork Clackamas National Wild and Scenic River, Mt. Hood National Forest and Bureau of Land Management, Oregon State Office, Clackamas County, Oregon

AGENCY: Forest Service, Agriculture (USDA) and Bureau of Land Management (USDOI).

ACTION: Notice of availability.

SUMMARY: In accordance with Section 3(b) of the Wild and Scenic Rivers Act, the USDA Forest Service, Washington Office, is transmitting the final boundary of South Fork Clackamas National Wild and Scenic River to Congress. The South Fork Clackamas Wild and Scenic River boundary description is available for review at the following website: https://www.fs.usda.gov/main/mthood/landmanagement/planning.

ADDRESSES: The South Fork Clackamas Wild and Scenic River boundary is available for review at the website listed under SUMMARY, to view the documents in person, arrangements should be made in advance by contacting the offices listed under FOR FURTHER INFORMATION CONTACT.

FOR FURTHER INFORMATION CONTACT: Information may be obtained by contacting John Matthews, Forest Service Regional Land Surveyor, by telephone at 503-808-2420 or john.matthews@usda.gov. Alternatively, contact Michelle Lombardo on the Mt. Hood National Forest at 971-303-2083 or michelle.lombardo@usda.gov; or Lauren Pidot at the Bureau of Land Management Oregon State Office, 1220 SW 3rd Ave. Portland, OR 97204; 503-808-6001 or lpidot@blm.gov. Individuals who use telecommunication devices for the deaf (TDD) may call the Federal Information Relay Service (FIRS) at 800-877-8339, 24 hours a day, every day of the year, including holidays.

SUPPLEMENTARY INFORMATION: The South Fork Clackamas Wild and Scenic River boundary description is available for review on the website listed under summary. Or in person by contacting one of the following offices: USDA Forest Service, Yates Building, 14th and Independence Avenues SW, Washington, DC 20024, at 800-832-1355; Pacific Northwest Regional Office, 1220 SW 3rd Ave. Portland, OR 97204, at 503-808-2468; Mt Hood National Forest Supervisor's Office, 16400 Champion Way, Sandy, OR 97055; USDOI, Bureau of Land Management National Office, (DOI Library), 1849 C St. NW, Washington, DC 20240, Bureau of Land Management Oregon State Office, 1220 SW 3rd Ave. Portland, OR 97204; 503-808-6001. Please contact the appropriate office prior to arrival.

Persons with disabilities who require alternative means of communication for program information (e.g., Braille, large print, audiotape, American Sign Language, etc.) should contact the responsible Agency or USDA's TARGET Center at 202-720-2600 (voice and TTY) or contact USDA through the Federal Relay Service at 800-877-8339. Additionally, program information may be made available in languages other than English.

The Omnibus Public Land Management Act of 2009 (Pub. L. 111-11) of March 30, 2009, designated South Fork Clackamas, Oregon as a National Wild and Scenic River, to be administered by the Secretary of Agriculture. As specified by law, the boundary will not be effective until ninety days after Congress receives the transmittal.

Dated: January 19, 2023.
Troy Heithecker,
Associate Deputy Chief, National Forest System.

[FR Doc. 2023-01388 Filed 1-24-23; 8:45 am]

BILLING CODE 3411-15-P